DEPARTMENT OF TRANSPORTATION

Federal Aviation Administration

14 CFR Part 39

[Docket No. FAA-2009-0638; Directorate Identifier 2009-CE-038-AD; Amendment 39-15968; AD 2009-15-05]

RIN 2120-AA64

Airworthiness Directives; Cessna Aircraft Company Models 208 and 208B Airplanes

AGENCY: Federal Aviation Administration (FAA), DOT.

ACTION: Final rule; request for comments.

SUMMARY: We are adopting a new airworthiness directive (AD) for certain Cessna Aircraft Company (Cessna) Models 208 and 208B airplanes. This AD requires you to measure the roll and the yaw bridle cable tension (adjusting as necessary) and to torque the clamp screws. This AD results from two reported incidences of slack bridle cables with the swaged balls unseating from their drum recesses. We are issuing this AD to detect and correct loose bridle cable clamps, which could result in the swaged ball unseating from the recess in the servo drum and contacting the cable guard pin. This failure could lead to very limited control of the rudder and/or aileron with consequent loss of control.

DATES: This AD becomes effective on July 27, 2009.

On July 27, 2009, the Director of the Federal Register approved the incorporation by reference of certain publications listed in this AD.

We must receive any comments on this AD by September 14, 2009.

ADDRESSES: Use one of the following addresses to comment on this AD.

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

To get the service information identified in this AD, contact Cessna Aircraft Company, Product Support, P.O. Box 7706; Wichita, Kansas 67277; telephone: (316) 517-5800; fax: (316) 942-9006; Internet: http://www.cessna.com.

To view the comments to this AD, go to http://www.regulations.gov. The docket number is FAA-2009-0638; Directorate Identifier 2009-CE-038-AD.

FOR FURTHER INFORMATION CONTACT: Ann Johnson, Aerospace Engineer, Wichita Aircraft Certification Office (ACO), 1801 Airport Road, Room 100, Wichita, Kansas 67209; telephone: (316) 946-4105; fax: (316) 946-4107; E-mail: ann.johnson@faa.gov.

SUPPLEMENTARY INFORMATION:

Discussion

We received reports on two Cessna Models 208 and 208B production airplanes with autopilot heading squawks. Upon investigation by the manufacturer, technicians found in both cases the bridle cable for the autopilot aileron servo was slack, and the swaged ball was unseated from the drum recess.

The cause of the bridle cables going slack was insufficient torque on the bridle cable clamp screws, allowing slippage of the bridle cable clamps on the roll bridle cable. Since the rudder and aileron autopilot interface are similar, the same condition could exist with the yaw bridle cable.

This condition, if not corrected, could result in the swaged ball unseating from the recess in the servo drum and contacting the cable guard pin. This failure could lead to very limited control of the rudder and/or aileron with consequent loss of control.

Relevant Service Information

We reviewed Cessna Aircraft Company Caravan Service Bulletin CAB08-9, dated November 24, 2008. The service information describes procedures for inspecting the bridle cables for looseness, adjusting the bridle cable tension, and tightening the bridle cable clamp screws to the correct torque. The manufacturer intends that the actions specified in the service information adequately address the unsafe condition.

FAA's Determination and Requirements of This AD

We are issuing this AD because we evaluated all the information and determined the unsafe condition described previously is likely to exist or develop on other products of the same type design. This AD requires you to measure the autopilot roll and yaw bridle cable tensions (adjusting as necessary) and to torque the bridle cable clamp screws.

FAA's Determination of the Effective Date

An unsafe condition exists that requires the immediate adoption of this AD. The FAA has found that the risk to the flying public justifies waiving notice and comment prior to adoption of this rule because the swaged ball on the bridle cable could unseat from the servo drum and contact the cable guard pin. This failure could lead to very limited control of the rudder and/or aileron. Therefore, we determined that notice and opportunity for public comment before issuing this AD are impracticable and that good cause exists for making this amendment effective in fewer than 30 days.

Comments Invited

This AD is a final rule that involves requirements affecting flight safety, and we did not precede it by notice and an opportunity for public comment. We invite you to send any written relevant data, views, or arguments regarding this AD. Send your comments to an address listed under the ADDRESSES section. Include the docket number “FAA-2009-0638; Directorate Identifier 2009-CE-038-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact we receive concerning this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket.

Examining the AD Docket

You may examine the AD docket that contains the AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2009-15-05 Cessna Aircraft Company: Amendment 39-15968; Docket No. FAA-2009-0638; Directorate Identifier 2009-CE-038-AD.

Effective Date

(a) This AD becomes effective on July 27, 2009.

Affected ADs

(b) None.

Applicability

(c) This AD applies to the following airplane models and serial numbers that are certificated in any category:

Model | Serial No.
208 | 20800500 through 20800504.
208B | 208B1216, 208B2001, 208B2003 through 208B2023, 208B2025 through 208B2029, 208B2031 through 208B2037, 208B2040, 208B2042, and 208B2043.

Unsafe Condition

(d) This AD is the result of two reported incidences of slack bridle cables with the swaged balls unseated from their drum recesses. We are issuing this AD to detect and correct loose bridle cable clamps, which could result in the swaged ball unseating from the recess in the servo drum and contacting the cable guard pin. This failure could lead to very limited control of the rudder and/or aileron with consequent loss of control.

Compliance

(e) To address this problem, you must do the following, unless already done:

Actions | Compliance | Procedures
(1) Measure and adjust as necessary, the roll bridle cable tension and yaw bridle cable tension, and torque the 12 bridle cable clamp screws | Within the next 10 hours time-in-service after July 27, 2009 (the effective date of this AD) | Follow Accomplishment Instructions, paragraphs 2. through 7., of Cessna Aircraft Company Caravan Service Bulletin CAB08-9, dated November 24, 2008.
(2) Use the form (Figure 1 of this AD) to report the results of the inspections required in paragraph (e)(1) of this AD. The Office of Management and Budget (OMB) approved the information collection requirements contained in this regulation under the provisions of the Paperwork Reduction Act of 1980 (44 U.S.C. 3501 et seq.) and assigned OMB Control Number 2120-0056 | Within 10 days after the inspection required in paragraph (e)(1). If Cessna Aircraft Company Caravan Service Bulletin CAB08-9, dated November 24, 2008, was done before July 27, 2009 (the effective date of this AD) the report is not required | Send the report to the FAA at the address specified in paragraph (f) of this AD.

AD 2009-15-05 Inspection Report
[If the SB was done before the effective date of this AD, this report does not need to be completed and returned to the Wichita ACO]
Airplane Model |
Airplane Serial Number |
Did you find the yaw bridle cable tension to be within the range of 15-25 lbs? |
Did you find the roll bridle cable tension to be within the range of 10-14 lbs? |
Were any other discrepancies noted during the inspection? |
Name |
Telephone and/or e-mail address |
Date |
Send report to:
Ann Johnson, Aerospace Engineer
ACE-116W, Wichita Aircraft Certification Office
1801 Airport Road, Room 100
Wichita, KS 67209
fax: (316) 946-4107
e-mail: ann.johnson@faa.gov

Figure 1

Alternative Methods of Compliance (AMOCs)

(f) The Manager, Wichita Aircraft Certification Office (ACO), FAA, has the authority to approve AMOCs for this AD, if requested using the procedures found in 14 CFR 39.19. Send information to Attn: Ann Johnson, Aerospace Engineer, Wichita Aircraft Certification Office (ACO), 1801 Airport Road, Room 100, Wichita, Kansas 67209; telephone: (316) 946-4105; fax: (316) 946-4107; E-mail: ann.johnson@faa.gov. Before using any approved AMOC on any airplane to which the AMOC applies, notify your appropriate principal inspector (PI) in the FAA Flight Standards District Office (FSDO), or lacking a PI, your local FSDO.

Material Incorporated by Reference

(g) You must use Cessna Aircraft Company Caravan Service Bulletin CAB08-9, dated November 24, 2008, to do the actions required by this AD, unless the AD specifies otherwise.

(1) The Director of the Federal Register approved the incorporation by reference of this service information under 5 U.S.C. 552(a) and 1 CFR part 51.

(2) For service information identified in this AD, contact Cessna Aircraft Company, Product Support, P.O. Box 7706; Wichita, Kansas 67277; telephone: (316) 517-5800; fax: (316) 942-9006; Internet: http://www.cessna.com.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on July 6, 2009.
Kim Smith,
Manager, Small Airplane Directorate, Aircraft Certification Service.

[FR Doc. E9-16465 Filed 7-14-09; 8:45 am]

BILLING CODE 4910-13-P